DEPARTMENT OF LABOR

Employment and Training Administration

[NAFTA-6322]

Whisper Jet, Inc., Sanford, FL; Notice of Termination of Investigation

Pursuant to Title V of the North American Free Trade Agreement Implementation Act (Pub.L. 103-182) concerning transitional adjustment assistance, hereinafter called (NAFTA-TAA), and in accordance with Section 250(a), Subchapter D, Chapter 2, Title II, of the Trade Act of 1974, as amended (19 U.S.C. 2273), an investigation was initiated on June 20, 2002, in response to a petition filed on behalf of workers at Whisper Jet, Inc., Sanford, Florida.

The petitioner has requested that the petition be withdrawn. Consequently, further investigation in this case would serve no purpose, and the investigation has been terminated.

Signed at Washington, DC, this 12th day of July, 2002.
Linda G. Poole,
Certifying Officer, Division of Trade Adjustment Assistance.

[FR Doc. 02-18429 Filed 7-19-02; 8:45 am]

BILLING CODE 4510-30-P